SUSQUEHANNA RIVER BASIN COMMISSION

Notice of Public Hearing and Commission Meeting

AGENCY: Susquehanna River Basin Commission.

ACTION: Notice of Public Hearing and Commission Meeting.

SUMMARY: The Susquehanna River Basin Commission will hold a public hearing as part of its regular business meeting beginning at 1:30 p.m. on December 5, 2007 in Lancaster, Pennsylvania. At the public hearing, the Commission will consider: (1) The approval of certain water resources projects, (2) enforcement actions involving three projects, (3) consideration of a request for an administrative hearing, (4) extension of two emergency water withdrawal certificates, and (5) revision of the Commission's current project fee schedule. Details concerning the matters to be addressed at the public hearing and business meeting are contained in the Supplementary Information section of this notice.

DATES: December 5, 2007.

ADDRESSES: Woods Conference Room, Alumni Sports and Fitness Complex, Franklin & Marshall College, 929 Harrisburg Pike, Lancaster, Pa. See Supplementary Information section for mailing and electronic mailing addresses for submission of written comments.

FOR FURTHER INFORMATION CONTACT: Richard A. Cairo, General Counsel, telephone: (717) 238-0423; ext. 306; fax: (717) 238-2436; e-mail: rcairo@srbc.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) Special recognitions for Pennsylvania Senator Noah Wenger and New York Alternate Commissioner Scott Foti, (2) a report on the present hydrologic conditions of the basin, (3) adoption of a final rulemaking for agricultural consumptive water use, (4) approval of certain low flow augmentation for agricultural consumptive use mitigation, (5) revision of aquifer test standards, (6) approval of the FY-07 independent audit, and (7) various contract and grant approvals.

Public Hearing—Projects Scheduled for Action

1. Project Sponsor and Facility: Village of Waverly (Well 4), Tioga County, N.Y. Modification of groundwater approval (Docket No. 20030207).

2. Project Sponsor and Facility: Snow Mountain LLC, Scranton City, Lackawanna County, Pa. Application to transfer approvals for surface water withdrawal of 7.300 mgd and consumptive water use of up to 1.600 mgd (Docket No. 20030405).

3. Project Sponsor: Graymont (PA) Inc. Project Facility: Pleasant Gap Facility, Spring Township, Centre County, Pa. Modification of consumptive water use approval (Docket No. 20050306).

4. Project Sponsor: Glenn O. Hawbaker, Inc. Project Facility: Pleasant Gap Facility, Spring Township, Centre County, Pa. Modification of consumptive water use approval (Docket No. 20050307).

5. Project Sponsor: Parkwood Resources, Inc. Project Facility: Cherry Tree Mine, Burnside Township, Indiana and Clearfield Counties, Pa. Application for consumptive water use of up to 0.225 mgd.

6. Project Sponsor and Facility: Mountainview Thoroughbred Racing Association, Inc., East Hanover Township, Dauphin County, Pa. Modification of consumptive water use approval (Docket No. 20020819).

7. Project Sponsor and Facility: King Drive Corp., Middle Paxton Township, Dauphin County, Pa. Modification of consumptive water use approval (Docket No. 20020615).

8. Project Sponsor and Facility: York Plant Holding LLC, Springettsbury Township, York County, Pa. Application for consumptive water use of up to 0.575 mgd.

Public Hearing—Projects Scheduled for Enforcement Actions

1. Project Sponsor and Facility: Cooperstown Dreams Park, Inc. (Docket No. 20060602), Town of Hartwick, Otsego County, N.Y.

2. Project Sponsor: Sand Springs Development Corp. (Docket No. 20030406). Project Facility: Sand Springs Golf Community, Butler Township, Luzerne County, Pa.

3. Project Sponsor and Facility: BC Natural Chicken, LLC (Docket No. 20040305), Bethel Township, Lebanon County, Pa.

Public Hearing—Request for Administrative Hearing

1. Project Sponsor: PPL Susquehanna, LLC. Project Facility: Susquehanna Steam Electric Station, Salem Township, Luzerne County, Pa. (Docket No. 19950301).

Public Hearing—Extension of Emergency Water Withdrawal Certificates

1. Project Sponsor and Facility: City of Lock Haven, Wayne Township, Clinton County, Pa.

2. Project Sponsor and Facility: Houtzdale Municipal Authority (Docket No. 19950101), Rush Township, Centre County, Pa.

Public Hearing—Fee Schedule Revision

Revise the project fee schedule to include escalations for the Consumer Price Index and the addition of a fee category for withdrawals less than 100,000 gpd.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Deborah J. Dickey, Secretary to the Commission, e-mail: ddickey@srbc.net. Comments mailed or electronically submitted must be received prior to December 5, 2007 to be considered.

Authority: Public Law 91-575, 84 Stat. 1509 et seq., 18 CFR parts 806, 807, and 808.

Dated: November 9, 2007.
Thomas W. Beauduy,
Deputy Director.

[FR Doc. E7-22648 Filed 11-19-07; 8:45 am]

BILLING CODE 7040-01-P